DEPARTMENT OF HEALTH AND HUMAN SERVICES

Health Resources and Services Administration

Statement of Organization, Functions and Delegations of Authority

This notice amends Part R of the Statement of Organization, Functions and Delegations of Authority of the Department of Health and Human Services (DHHS), Health Resources and Services Administration (HRSA) (60 FR 56605, as amended November 6, 1995; as amended 68 FR 787-93, January 7, 2003; as amended at 68 FR 8515-8517, February 21, 2003, as last amended 69 FR 56433-56445, September 21, 2004.)

This notice reflects several revisions to the organizational and functional statements of the Bureau of Primary Health Care. Specifically, this notice (1) Renames the Division of Health Center Development to the Division of Policy and Development; (2) Moves the policy function from the Office of the Director; (3) Establishes the Policy Branch in the Division of Policy and Development; and (4) Establishes a new description for the Division Director.

Section RC-00 Mission

The Bureau of Primary Health Care (BPHC) directs national health programs which improve the health of the Nation by assuring access to high quality comprehensive preventive and primary health care services and improving the health status of the Nation's underserved and vulnerable populations.

Section RC-10 Organization

The Bureau of Primary Health Care (BPHC) headed by the Associate Administrator for Primary Health Care reports directly to the Administrator, Health Resources and Services Administration. BPHC includes the following components:

(1) Office of the Associate Administrator (RC)

(2) Office of Minority and Special Populations (RCE)

(3) Division of Policy and Development (RCH)

(4) Division of Health Center Management (RCJ)

(5) Division of Clinical Quality (RCK)

(6) Division of State and Community Assistance (RCL)

(7) Division of National Hansen's Disease Program (RC7)

(8) Division of Immigration Health Services (RC9)

Remove the policy function from the Office of the Associate Administrator and place it in the Division of Policy and Development; and change the functional statement as follows: The Division of Policy and Development (RCH) serves as the organizational focus of the competitive grant process for BPHC; and leads in drafting policy and conducting analyses of performance across BPHC's programs. Specifically, the Division of Policy and Development executes the following activities: (1) Leads and monitors the development and expansion of health centers and health systems infrastructure; (2) provides pre-application assistance to communities and community-based organizations related to the development and expansion of health centers and health systems infrastructure; (3) consults and coordinates with other components within HRSA, other Federal agencies, consumer and constituency groups, and national and State organizations on issues affecting BPHC's programs; (4) formulates budget justifications for BPHC's programs and provides input into the analysis of BPHC budget execution; (5) leads and coordinates the analysis, development and drafting of policy impacting BPHC's programs; (6) performs environmental scanning on issues that affect BPHC's programs; (7) serves as the focal point for designing and implementing a plan for assessing and improving program performance; and (8) serves as the focal point for monitoring BPHC's activities in relation to HRSA's Strategic Plan.

Revise the functional statement for the Office of the Associate Administrator as follows: Provides overall leadership, direction, coordination, and strategic planning in support of Bureau programs. Specifically: (1) Has lead responsibility to bring primary health care services to the Nation's neediest communities; (2) serves as a central point of contact for Bureau communication and information; (3) establishes program policies, goals, and objectives and provides oversight as to their execution; (4) interprets program policies, guidelines, and priorities; (5) stimulates, coordinates and evaluates program development and progress; (6) maintains effective relationships with HRSA, other Department and Health and Human Services (HHS) organizations, other Federal agencies, State and local governments, and other public and private organizations concerned with primary health and improving the health status of the Nation's underserved and vulnerable populations; and (7) plans, directs, coordinates and evaluates Bureau-wide administrative management activities; (8) assures BPHC's funding recommendations are consistent with authorizing legislation, program expectations and HHS and HRSA policies.

Section RC-30 Delegation of Authority

All delegations of authority which were in effect immediately prior to the effective date hereof have been continued in effect in them or their successors pending further re-delegation. I hereby ratify and affirm all actions taken by any HHS official which involves the exercise of these authorities prior to the effective date of this delegation.

This reorganization is effective upon the date of signature.

Dated: July 6, 2005.
Elizabeth M. Duke,
Administrator.

Bureau of Primary Health Care (BPHC) (RC)

Provides overall leadership, direction, coordination, and strategic planning in support of Bureau programs. Specifically:(1) Has lead responsibility to bring primary health care services to the Nation's neediest communities; (2) serves as a central point of contact for Bureau communication and information; (3) establishes program policies, goals, and objectives and provides oversight as to their execution; (4) interprets program policies, guidelines, and priorities; (5) stimulates, coordinates and evaluates program development and progress; (6) maintains effective relationships with HRSA, other Department and Health and Human Services (HHS) organizations, other Federal agencies, State and local governments, and other public and private organizations concerned with primary health and improving the health status of the Nation's underserved and vulnerable populations; (7) plans, directs, coordinates and evaluates Bureau-wide administrative management activities; and (8) assures BPHC's funding recommendations are consistent with authorizing legislation, program expectations and HHS and HRSA policies.

Dated: July 6, 2005.

Elizabeth M. Duke,

Administrator.

Bureau of Primary Health Care (BPHC) (RC)Division of Policy and Development (RCH)

The Division of Policy and Development serves as the organizational focus of the competitive grant process for BPHC; and leads in drafting policy and conducting analyses of performance across BPHC's programs. Specifically, the DPD executes the following activities: (1) Leads and monitors the development and expansion of health centers and health systems infrastructure; (2) provides pre-application assistance to communities and community-based organizations related to the development and expansion of health centers and health systems infrastructure; (3) consults and coordinates with other components within HRSA, other Federal agencies, consumer and constituency groups, and national and State organizations on issues affecting BPHC's programs; (4) formulates budget justifications for BPHC's programs and provides input into the analysis of BPHC budget execution; (5) leads and coordinates the analysis, development and drafting of policy impacting BPHC's programs; (6) performs environmental scanning on issues that affect BPHC's programs; (7) serves as the focal point for designing and implementing a plan for assessing and improving program performance; and (8) serves as the focal point for monitoring BPHC's activities in relation to HRSA's Strategic Plan.

Dated: July 6, 2005.

Elizabeth M. Duke,

Administrator.

[FR Doc. 05-14485 Filed 7-21-05; 8:45 am]

BILLING CODE 4165-15-P